DEPARTMENT OF COMMERCE

National Oceanic and Atmospheric Administration

50 CFR Part 600

[Docket No. 120425420-2420-01]

RIN 0648-BB92

Fisheries of the United States; National Standard 1 Guidelines; Reopening of Public Comment Period

AGENCY: National Marine Fisheries Service (NMFS), National Oceanic and Atmospheric Administration (NOAA), Commerce.

ACTION: Advance notice of proposed rulemaking; reopening of public comment period.

SUMMARY: NMFS is reopening the comment period on the Advance Notice of Proposed Rulemaking (ANPR) published on May 3, 2012, on potential adjustments to the National Standard 1 Guidelines, one of 10 national standards for fishery conservation and management contained in Section 301 of the Magnuson-Stevens Fishery Conservation and Management Act. The current comment period is scheduled to end on September 15, 2012. Because of the importance of NS1 to U.S. fishery management and the complexity of the issues, NMFS feels reopening the comment period will provide for a fuller range of public input on the NS1 Guideline issues. The comment period will close on October 12, 2012.

DATES: The comment period for the ANPR was published on May 3, 2012 (77 FR 26238), and closed on September 15, 2012. The comment period will reopen on September 16, 2012, and remain open through October 12, 2012.

ADDRESSES: You may submit comments on the referenced ANPR, identified by “NOAA-NMFS-2012-0059”, by any one of the following methods:

• Electronic Submissions: Submit all electronic public comments via the Federal eRulemaking Portal: www.regulations.gov. To submit comments via the e-Rulemaking Portal, first click the “submit a comment” icon, then enter “NOAA-NMFS-2012-0059” in the keyword search. Locate the document you wish to comment on from the resulting list and click on the “Submit a Comment” icon on the right of that line.

• Fax: 301-713-1193, Attn: Wesley Patrick.

• Mail: Wesley Patrick; National Marine Fisheries Service, NOAA; 1315 East-West Highway, Room 13436; Silver Spring, MD 20910.

Instructions: Comments must be submitted by one of the above methods to ensure that the comments are received, documented, and considered by NMFS. Comments sent by any other method, to another address or individual, or received after the end of the comment period, may not be considered. All comments received are part of the public record and will generally be posted for public viewing on www.regulations.gov without change. All personal identifying information (e.g., name, address, etc.) submitted voluntarily by the sender will be publicly accessible. Do not submit confidential business information or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Wesley Patrick, Fisheries Policy Analyst, National Marine Fisheries Service, 301-427-8566.

SUPPLEMENTARY INFORMATION:

Background

On May 3, 2012, NMFS published an ANPR (77 FR 26238) to provide background information and to request public comment on potential adjustments to the National Standard 1 Guidelines. The ANPR provides the public with a formal opportunity to comment on the specific ideas mentioned in the ANPR, as well as any additional ideas and solutions that could improve provisions of the National Standard 1 Guidelines.

The comment period on the ANPR was originally scheduled to close on August 1, 2012. NMFS received a request from the Western Pacific Regional Fishery Management Council on behalf of all eight regional councils, to extend the comment period on the ANPR to September 15, 2012. On July 3, 2012, NMFS published a Federal Register notice extending the comment period to September 15, 2012 (77 FR 39459). Because of the importance of NS1 to U.S. fishery management and the complexity of the issues, NMFS feels reopening the comment period will provide for a fuller range of public input on the NS1 Guideline issues. NMFS is reopening the comment period and establishing a comment period end date of October 12, 2012.

Authority: 16 U.S.C. 1801 et seq.

Dated: September 14, 2012.
Alan D. Risenhoover,
Director, Office of Sustainable Fisheries, performing the functions and duties of the Deputy Assistant Administrator for Regulatory Programs.

[FR Doc. 2012-23151 Filed 9-14-12; 4:15 pm]

BILLING CODE 3510-22-P